DEPARTMENT OF LABOR

Office of the Secretary

Submission for OMB Review: Comment Request

September 9, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor, Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of International Labor Affairs.

Type of Review: New collection (Request for a new OMB Control Number).

Title of Collection: Solicitation of Nominations for the Iqbal Masih Award for the Elimination of Child Labor.

OMB Control Number: 1290-XXXX.

Affected Public: Private Sector.

Total Estimated Number of Respondents: 30.

Total Estimated Annual Burden Hours: 300.

Total Estimated Annual Costs Burden (does not include hourly wage costs): $0.

Description: The U.S. Department of Labor, Bureau of International Labor Affairs (DOL/ILAB) seeks to collect information from the public as part of a process for nominating candidates for The United States Department of Labor's Iqbal Masih Award for the Elimination of Child Labor. The Iqbal Masih Award is a non-monetary award in recognition of exceptional efforts to reduce the worst forms of child labor. The award is in response to Senate Committee (Significant Report 110-107 DM/ILAB) language in fiscal year 2008, directing the Secretary of Labor to establish an annual non-monetary award recognizing the extraordinary efforts by an individual, company, organization or national government toward the reduction of the worst forms of child labor. The award shall be named, “The United States Department of Labor's Iqbal Masih Award for the Elimination of Child Labor.” The award's two major goals are to: (a) Honor and give public recognition to a recipient demonstrating extraordinary efforts to combat the worst forms of child labor internationally; and (b) identify those who share qualities demonstrated by Iqbal Masih, including leadership, courage, integrity, and a search to end the labor exploitation of children and raise awareness about the worst forms of child labor internationally. For additional information, see related notice published at Volume 74 FR 25774 on May 29, 2009.

Darrin A. King,
Departmental Clearance Officer.

[FR Doc. E9-22113 Filed 9-14-09; 8:45 am]

BILLING CODE 4510-23-P